DEPARTMENT OF AGRICULTURE

Food and Nutrition Service

Agency Information Collection Activities: Proposed Collection; Comment Request—Evaluation of the Prime Vendor Pilot Project

AGENCY: Food and Nutrition Service, USDA.

ACTION: Notice.

SUMMARY: In accordance with the Paperwork Reduction Act of 1995, this notice announces the Food and Nutrition Service's intention to request Office of Management and Budget approval of data collection instruments for the Evaluation of the Prime Vendor Pilot Project.

DATES: Written comments on this notice must be received by July 31, 2001.

ADDRESSES: Comments are invited on: (a) Whether the proposed collection of information is necessary for the proper performance of the functions of the agency, including whether the information will have practical utility; (b) the accuracy of the agency's estimate of burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

All responses to this notice will be summarized and included in the request for Office of Management and Budget (OMB) approval. All comments will also become a matter of public record.

Comments may be sent to: Alberta C. Frost, Director, Office of Analysis, Nutrition and Evaluation, Food and Nutrition Service, U.S. Department of Agriculture, 3101 Park Center Drive, Alexandria, VA 22302.

FOR FURTHER INFORMATION CONTACT: Requests for additional information or copies of the proposed information collection forms should be directed to Alberta C. Frost (703) 305-2117.

SUPPLEMENTARY INFORMATION: Title: Evaluation of the Prime Vendor Pilot Project—Data Collection Instruments.

OMB Number: Not yet assigned.

Expiration Date: N/A

Type of Request: New collection of information.

Abstract: The Prime Vendor Project is a pilot of the Food Distribution Program in Indian Reservations (FDPIR) that is planned to last from July 1, 2001 to June 30, 2002. The FDPIR was authorized by Section 4(b) of the Food Stamp Act of 1977 [7 U.S.C. 2013(b)] and Section 4(a) of the Food and Consumer Protection Act of 1973 [7 U.S.C. 612(c) Note]. The Prime Vendor Pilot will establish a partnership between USDA and the Department of Defense (DoD) to pilot test food distribution operations through a Prime Vendor system. The participating recipients will be the 23 Indian Tribal Organizations (ITO's) in the Midwest Region, covering Minnesota, Wisconsin, and Michigan. Through the Prime Vendor Pilot agreement, USDA becomes a party to the existing DoD contract with commercial wholesalers/distributors through which the Prime Vendor will accept food orders directly from the ITO's, and deliver food items in three days, rather than 60-90 days as currently practiced. ITO's can also order as frequently as needed, instead of once a month, as long as the USDA ordering/entitlement cap set for the ITO is not exceeded. Under this pilot, USDA buys food items directly from the wholesalers/distributors without any middleman. In short, the Prime Vendor will procure foods pre-approved by FNS, store and deliver them to the ITO, and bill USDA. The evaluation component will collect information from ITO's, USDA agencies, and regional offices using two questionnaires: one for the ITO respondents and the other for respondents from the Food and Nutrition Service (FNS), the Agricultural Marketing Service (AMS), the Farm Service Agency (FSA), the Midwest Regional Office (MWRO), and the Kansas City Commodity Office (KCCO). Respondent interviews will be self-administered at two data collection points: pre- and post-intervention.

Estimate of Burden: Public burden for respondents of ITO's is estimated at 1 hour per response for two responses each by 33 respondents (33 × 2 × 1 hour = 66 hours).

Respondents: The most knowledgeable FDPIR staff member in the ITO will be interviewed. Note: also as part of this effort, the most knowledgeable FDPIR staff member in FNS, AMS, FSA, MWRO, and KCCO will be interviewed as well.

Estimated Number of Respondents: Twenty-three respondents will be interviewed from ITO's in the Midwest Region, 10 respondents from other ITO's. Note: as part of this effort, 5 respondents will be interviewed from USDA agencies and regional offices.

Estimated Number of Responses Per Respondent: Two.

Estimated Total Annual Burden on Respondents: 66 hours (33 × 2 interviews × 1 hour each).

Dated: May 25, 2001.
George A. Braley,
Acting Administrator, Food and Nutrition Service.

[FR Doc. 01-13781 Filed 5-31-01; 8:45 am]

BILLING CODE 3410-30-P